DEPARTMENT OF AGRICULTURE

Animal and Plant Health Inspection Service

[Docket No. APHIS-2011-0051]

Notice of Request for Approval of an Information Collection; Smuggling, Interdiction, and Trade Compliance Program; Smuggling Form

AGENCY: Animal and Plant Health Inspection Service, USDA.

ACTION: New information collection; comment request.

SUMMARY: In accordance with the Paperwork Reduction Act, this notice announces the Animal and Plant Health Inspection Service's intention to initiate an information collection to support our smuggling, interdiction, and trade compliance program.

DATES: We will consider all comments that we receive on or before September 19, 2011.

ADDRESSES: You may submit comments by either of the following methods:

• Federal eRulemaking Portal: Go to http://www.regulations.gov/#!documentDetail;D=APHIS-2011-0051-0001.

• Postal Mail/Commercial Delivery: Send your comment to Docket No. APHIS-2011-0051, Regulatory Analysis and Development, PPD, APHIS, Station 3A-03.8, 4700 River Road Unit 118, Riverdale, MD 20737-1238.

Supporting documents and any comments we receive on this docket may be viewed at http://www.regulations.gov/#!docketDetail;D=APHIS-2011-0051 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: For information on the smuggling, interdiction, and trade compliance program, contact Mr. Jose R. Ceballos, National Coordinator, SITC, PPQ, APHIS, 4700 River Road Unit 52, Riverdale, MD 20737; (301) 734-0872. For copies of more detailed information on the information collection, contact Mrs. Celeste Sickles, APHIS' Information Collection Coordinator, at (301) 851-2908.

SUPPLEMENTARY INFORMATION: Title: Smuggling, Interdiction, and Trade Compliance Program; Smuggling Form.

OMB Number: 0579-xxxx.

Type of Request: Approval of a new information collection.

Abstract: The Animal and Plant Health Inspection Service (APHIS) programs are established to ensure the availability of domestic and imported foods in the American marketplace, facilitate the importation and exportation of agricultural commodities to foreign countries, and preserve the health and diversity of APHIS' agricultural resources. APHIS' Plant Protection and Quarantine Smuggling Interdiction and Trade Compliance Program (SITC) is involved with efforts to prevent the unlawful entry, introduction, and distribution of prohibited agricultural commodities and products that may harbor harmful exotic plant and animal pests, diseases, or invasive species. This program allows the public/industry to anonymously or openly report suspicious or current smuggling activities by completing a form or placing a phone call to the SITC National Office Smuggling Hotline (800-877-3835).

When SITC has evidence that an agricultural regulation has been violated, they may turn the case over to APHIS' Investigative and Enforcement Services and United States Department of Agriculture's Office of Inspector General for prosecution.

APHIS is requesting the Office of Management and Budget (OMB) approve PPQ Form 300 for the use of this information collection for 3 years, which is necessary to prevent the unlawful entry and distribution of prohibited agricultural commodities and products that may harbor harmful exotic plant and animal pests, diseases, or invasive species.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.025 hours per response.

Respondents: Anyone (public, industry, and farms) who anonymously or openly reports suspicious smuggling activities.

Estimated annual number of respondents: 200.

Estimated annual number of responses per respondent: 1.

Estimated annual number of responses: 200.

Estimated total annual burden on respondents: 50 hours. (Due to averaging, the total annual burden hours may not equal the product of the annual number of responses multiplied by the reporting burden per response.)

All responses to this notice will be summarized and included in the request for OMB approval. All comments will also become a matter of public record.

Done in Washington, DC, this 13th day of July 2011.
Kevin Shea,
Acting Administrator, Animal and Plant Health Inspection Service.

[FR Doc. 2011-18106 Filed 7-18-11; 8:45 am]

BILLING CODE 3410-34-P